DEPARTMENT OF COMMERCE

National Oceanic and Atmospheric Administration

RIN 0648-XA986

Intent To Prepare an Environmental Impact Statement for NOAA Restoration Center Programmatic Coastal Habitat Restoration Activities

AGENCY: National Marine Fisheries Service (NMFS), National Oceanic and Atmospheric Administration (NOAA), Commerce.

ACTION: Announcement of public scoping; request for comments.

SUMMARY: Pursuant to the National Environmental Policy Act (NEPA) of 1969 and in compliance with the implementing regulations issued by the Council on Environmental Quality and procedures issued by NOAA Administrative Order 216-6, NOAA is providing notice of its intent to develop a Programmatic Environmental Impact Statement (PEIS) to evaluate the potential environmental impacts of different ranges of coastal and marine habitat restoration project types conducted and supported by the NOAA Restoration Center.

DATES: Interested parties should provide written comments by May 31, 2012.

ADDRESSES: Interested parties that wish to send questions, comments or requests for information may send an email to the following address: rc.compliance@noaa.gov.

Interested parties that wish to send questions, comments or requests for information through regular mail may use the following mailing address: NOAA Restoration Center (F/HC3), ATTN: Restoration PEIS Scoping, 1315 East West Highway, Silver Spring, MD 20910.

The NOAA Restoration Center Web site that contains information and updates relevant to this PEIS can be found at: http://www.restoration.noaa.gov/environmentalcompliance

FOR FURTHER INFORMATION CONTACT: Tom Barry at 301-427-8653 or via the following email address: rc.compliance@noaa.gov.

SUPPLEMENTARY INFORMATION: The NOAA Restoration Center is the only office within NOAA solely devoted to restoring the nation's coastal, marine, and migratory fish habitat. Recognizing that the most successful environmental restoration projects are supported and implemented at the community-level, the Restoration Center creates and builds partnerships on local, regional and national scales to carry out habitat restoration projects within the coastal United States, Great Lakes region, and territories. Restoration projects use a number of priority habitat restoration approaches to positively impact fishery production. Most notably these approaches include, but are not limited to, opening rivers, reconnecting coastal wetlands, restoring corals, rebuilding shellfish populations, land and easement acquisition, erosion reduction, public outreach, restoration research, or a combination of these project types. The Restoration Center provides financial and technical assistance for implementing habitat restoration projects to partners primarily on a competitive basis through a number of programs and funding opportunities administered by the Restoration Center. These include the Community-based Restoration Program (CRP), the Damage Assessment, Remediation and Restoration Program (DARRP), the Coastal Wetland Planning, Protection and Restoration Act (CWPPRA) Program, and the Great Lakes Habitat Restoration Program (GLHRP).

In 2002 the NOAA Restoration Center released the “NOAA Fisheries' Implementation Plan for the Community-based Restoration Program” to document environmental compliance processes and procedures for the CRP. In 2006, the NOAA Restoration Center released a Supplemental Programmatic Environmental Assessment (SPEA) to update and further refine the environmental impact evaluation process for the CRP. Since that time, the Restoration Center has increased the scope and scale of the individual projects implemented by the CRP, as well as other Restoration Center programs. Therefore, the environmental impact analysis process under NEPA that uses the 2002 implementation plan and 2006 SPEA needs to be revised.

Accordingly, NOAA is providing notice of its intent to develop a PEIS to evaluate the potential environmental impacts of proposed coastal and marine habitat restoration activities that the NOAA Restoration Center may conduct and support through its funding programs and restoration partners. These activities include: (1) Technical Assistance (includes planning, permitting, monitoring, research and outreach); (2) Riverine/Riparian/Associated Uplands Restoration (includes channel, bank and floodplain, buffer area and watershed revegetation); (3) Inter-tidal Restoration (includes saltmarsh and oyster restoration); (4) Sub-tidal Restoration (includes submerged aquatic vegetation and coral restoration); and (5) Land and Water Acquisition. Possible alternatives NOAA will explore during the scoping process include the following:

• Alternative 1 (preferred): NOAA proposes to support a comprehensive range of restoration activities through a wide variety of project types. Under this alternative, the Restoration Center would carry out Activities 1-5 (Technical Assistance, Riverine/Riparian/Associated Uplands Restoration, Sub-tidal Restoration, Inter-tidal Restoration, and Land and Water Acquisition). This alternative enables the Restoration Center to implement its programs and work toward its mission with the greatest efficiency and impact.

• Alternative 2: Under this alternative NOAA would support a more limited range of project types, limited to Activities 1-4 (Technical Assistance, Riverine/Riparian/Associated Uplands Restoration, Sub-tidal Restoration, and Inter-tidal Restoration). This alternative, while not preferred, enables the Restoration Center to maintain a high level of efficiency and impact in implementing its programs. However, the exclusion of land and easement acquisition would steer program priorities toward on-the-ground restoration activities and technical support.

• Alternative 3: Under this alternative NOAA would support a very limited range of project types, limited to Activity 1 (Technical Assistance). This alternative, while not preferred, enables the Restoration Center to support restoration activities conducted by partners.

The publication date of this notice constitutes the start of the public scoping process under NEPA for the PEIS. Through public comment, the scoping process will help identify and determine the environmental issues that the PEIS will address. This notice provides information on how the public may participate. NOAA encourages all parties with an interest in or who are affected by habitat restoration activities to provide suggestions, comments and input on the alternatives, scope of analysis and issues relevant to the activities presented in this notice. All interested parties who wish to provide comment may submit written comments to the NOAA Restoration Center electronically or by original hard copy to the address provided above. For more detailed background information, including program descriptions, restoration project types, and the aforementioned environmental assessment documents, please visit the NOAA Restoration Center Web site. NOAA will update the information on the Web site periodically throughout the public scoping process as needed.

Authority

The authority for these actions include the Magnuson-Stevens Fishery Conservation and Management Act (16 U.S.C. 1891a), and the Fish and Wildlife Coordination Act (16 U.S.C. 661).

Dated: February 28, 2012.
Brian Pawlak,
Acting Director, Office of Habitat Conservation, National Marine Fisheries Service.

[FR Doc. 2012-5310 Filed 3-2-12; 8:45 am]

BILLING CODE 3510-22-P